DEPARTMENT OF COMMERCE

Foreign-Trade Zones Board

[S-26-2021]

Approval of Subzone Status; Celgene Corporation; Warren and Summit, New Jersey

On February 10, 2021, the Executive Secretary of the Foreign-Trade Zones (FTZ) Board docketed an application submitted by the Port Authority of New York and New Jersey, grantee of FTZ 49, requesting subzone status subject to the existing activation limit of FTZ 49, on behalf of Celgene Corporation, in Warren and Summit, New Jersey.

The application was processed in accordance with the FTZ Act and Regulations, including notice in the Federal Register inviting public comment (86 FR 9908-9909, February 17, 2021). The FTZ staff examiner reviewed the application and determined that it meets the criteria for approval. Pursuant to the authority delegated to the FTZ Board Executive Secretary (15 CFR Sec. 400.36(f)), the application to establish Subzone 49U was approved on April 5, 2021, subject to the FTZ Act and the Board's regulations, including Section 400.13, and further subject to FTZ 49's 2,000-acre activation limit.

Dated: April 5, 2021.
Andrew McGilvray,
Executive Secretary.

[FR Doc. 2021-07242 Filed 4-7-21; 8:45 am]

BILLING CODE 3510-DS-P